DEPARTMENT OF DEFENSE

Department of the Navy

32 CFR Part 706

Certifications and Exemptions Under the International Regulations for Preventing Collisions at Sea, 1972

Correction

In rule document 2018-02554 appearing on pages 5536-5537 in the issue of February 8, 2018, make the following correction:

§ 706 .2 [Corrected]

On page 5537, in Table Four, in the second column, “DDG 115” should read “DDG 116”.

[FR Doc. C1-2018-02554 Filed 2-13-18; 8:45 am]

BILLING CODE 1301-00-P